DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of limitation on claims for judicial review of actions by TxDOT and Federal agencies.

SUMMARY: Notice is hereby given that TxDOT and Federal agencies have taken final agency actions by issuing licenses, permits, and approvals for the highway projects in the State of Texas that are listed below. The environmental review, consultation, and other actions required by applicable Federal environmental laws for these projects are being, or have been, carried-out by TxDOT pursuant to statute and a Memorandum of Understanding dated December 16, 2014, and executed by FHWA and TxDOT. The actions relate to various proposed highway projects in the State of Texas. Those actions grant licenses, permits, and approvals for the projects.

DATES: By this notice, TxDOT is advising the public of final agency actions subject to 23 U.S.C. 139(l)(1). A claim seeking judicial review of TxDOT and Federal agency actions on the highway project will be barred unless the claim is filed on or before March 11, 2019. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: This notice announces actions taken by TxDOT and Federal agencies that are final within the meaning of 23 U.S.C. 139(l)(1). The environmental review, consultation, and other actions required by applicable Federal environmental laws for these projects are being, or have been, carried-out by TxDOT pursuant to 23 U.S.C. 327 and a Memorandum of Understanding dated December 16, 2014, and executed by FHWA and TxDOT.

The actions by TxDOT and Federal agencies and the laws under which such actions were taken are described in the Categorical Exclusion (CE) or Environmental Assessment (EA) issued in connection with the projects and in other key project documents. The CE or EA, and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. IH 30 from Bass Pro Drive to Dalrock Road in Dallas and Rockwall Counties, Texas. The proposed improvements would consist of the construction of a continuous six-lane frontage road system crossing Lake Ray Hubbard along IH 30 in Garland and Rowlett, Texas. The improvements also include the construction of a new bridge for Bayside Drive, a southbound Dalrock Bypass to eastbound IH 30 frontage road, the reconstruction of the interchange at Dalrock Road, and associated ramp modifications. The proposed project would consist of three frontage road lanes in each direction with two 12-foot inside travel lanes and one outside 14-foot shared use lane with curb and gutter and associated entrance and exit ramp alignment modifications. An 8-foot sidewalk would be constructed along the westbound outer lane of the frontage road for pedestrian accommodation. A 12-foot shared-use path would be constructed along the eastbound outer frontage road lane for both bicyclists and pedestrian accommodation. The length of the proposed project is approximately 2.51 miles. The purpose of the proposed project is to reduce traffic congestion, improve mobility and enhance safety in the project area. The actions by TxDOT and Federal agencies and the laws under which such actions were taken are described in the documentation supporting the Categorical Exclusion (CE) Determination approved on September 7, 2018, and other documents in the TxDOT project file. The CE Determination and other documents are available by contacting TxDOT at the address provided above or the TxDOT Dallas District Office at 4777 E Highway 80, Mesquite, TX 75150; telephone: (214) 320-4480.

2. U.S. 281 from FM 3248 to FM 1421 in Cameron County. The proposed project would widen U.S. 281 within the described limits from two to four lanes, with intermittent right-turn lanes and dedicated center left-turn lanes at major intersections. The proposed project is approximately 5.2 miles in length, and the purpose of the project is to improve mobility and increase the operational efficiency of US 281. The actions by TxDOT and Federal agencies and the laws under which such actions were taken are described in the Final Environmental Assessment (EA) approved on December 10, 2015, the Finding of No Significant Impact (FONSI) issued on December 10, 2015, and other documents in the TxDOT project file. The EA, FONSI and other documents in the TxDOT project file are available by contacting TxDOT at the address provided above or the TxDOT Pharr District Office at 600 W U.S. Expressway 83, Pharr, TX 78577-1231; telephone: (956) 702-6102. The EA and FONSI can also be viewed and downloaded from the following website: https://www.txdot.gov/inside-txdot/projects/studies/pharr/us281-military.html.

3. U.S. 83 Relief Route at La Joya/Penitas from 0.85 Mile East of FM 886 (El Faro Road) to 0.28 Mile West of Showers Road, Hidalgo County. The ultimate proposed project consists of four main lanes, with two 12-foot main lanes in each direction with 4-foot wide inside shoulder and 10-foot wide outside shoulder. Additional elements include frontage roads consisting of two 12-foot wide lanes in each direction with 4-foot wide inside shoulder and 10-foot wide outside shoulder (Phase I); three overpasses; controlled access ramps providing connectivity between frontage roads and main lanes, and direct connectors between existing U.S. 83 and the proposed U.S. 83 Relief Route. The project length is approximately 9.24 miles. The purpose of the proposed project is to reduce congestion, improve mobility and safety, and improve corridor connectivity. The actions by TxDOT and Federal agencies and the laws under which such actions were taken are described in the Final Environmental Assessment (EA) approved on February 3, 2015, the Finding of No Significant Impact (FONSI) issued on February 3, 2015, and other documents in the TxDOT project file. The EA, FONSI and other documents in the TxDOT project file are available by contacting TxDOT at the address provided above or the TxDOT Pharr District Office at 600 W U.S. Expressway 83, Pharr, TX 78577-1231; telephone: (956) 702-6102.

4. FM 494 (Shary Road) from SH 107 to FM 1924 (Mile 3 North Road), Hidalgo County. The proposed project would widen and reconstruct FM 494 (Shary Road) for a distance of approximately 4.4 miles within the described limits. The proposed project would provide a roadway with four 12-foot wide travel lanes, two 10-foot wide shoulders, and a 16-foot wide continuous left turn lane within a proposed 120-foot wide right-of-way. The purpose of the proposed project is to improve mobility, provide pedestrian accommodations, and complete the roadway network. The actions by TxDOT and Federal agencies and the laws under which such actions were taken are described in the Final Environmental Assessment (EA) approved on April 26, 2017, the Finding of No Significant Impact (FONSI) issued on April 26, 2017, and other documents in the TxDOT project file. The EA, FONSI, and other documents in the TxDOT project file are available by contacting TxDOT at the address provided above or the TxDOT Pharr District Office at 600 W U.S. Expressway 83, Pharr, TX 78577-1231; telephone: (956) 702-6102. The EA and FONSI can also be viewed and downloaded from the following website: https://www.txdot.gov/inside-txdot/get-involved/about/hearings-meetings/pharr/051217.html.

5. Owassa Road from Jackson Road to I-69C, Hidalgo County. The proposed project involves widening the existing facility to a four-lane major collector, comprising an 11-foot inside travel lane in each direction, a 14-foot shared-use outside lane in each direction, a 12-foot continuous center left-turn lane, and five-foot sidewalks on each side of the roadway. The project length is 1.1 miles. The project purpose is to correct existing design deficiencies and allow for a more continual flow of traffic than currently exists, as well as to improve the existing drainage system. The actions by TxDOT and Federal agencies and the laws under which such actions were taken are described in the Final Environmental Assessment (EA) approved on December 15, 2015, the Finding of No Significant Impact (FONSI) issued on December 15, 2015, and other documents in the TxDOT project file. The EA, FONSI, and other documents in the TxDOT project file are available by contacting TxDOT at the address provided above or the TxDOT Pharr District Office at 600 W U.S. Expressway 83, Pharr, TX 78577-1231; telephone: (956) 702-6102.

6. Mile 6 West Road from Mile 9 North to SH 107, Hidalgo County. The proposed project would widen the existing roadway from two to four lanes for a distance of 7.5 miles. The two mile urban section, from Mile 9 North to Mile 11 North, would consist of an urban curb and gutter section with four 12-foot wide travel lanes (two in each direction,) a 14-foot continuous center left turn lane, 10-foot shoulders, six-foot wide sidewalks on both sides of the road and a storm sewer drainage system. The remaining 5.5 mile rural section, from Mile 11 North to SH 107, would accommodate four 11-foot travel lanes (two in each direction), center turn lane at intersections, and 8-foot shoulders. The project is proposed to address current and projected transportation demands, facility deficiencies, and to improve safety. The actions by TxDOT and Federal agencies and the laws under which such actions were taken are described in the Final Environmental Assessment (EA) approved on December 15, 2015, the Finding of No Significant Impact (FONSI) issued on December 15, 2015, and other documents in the TxDOT project file. The EA, FONSI, and other documents in the TxDOT project file are available by contacting TxDOT at the address provided above or the TxDOT Pharr District Office at 600 W U.S. Expressway 83, Pharr, TX 78577-1231; telephone: (956) 702-6102.

7. Liberty Boulevard from U.S. 83 to FM 2221, Hidalgo County. The proposed project involves construction of a 69-foot wide five lane urban roadway consisting of a 14-foot wide continuous center turn lane, two 12-foot wide inside travel lanes, two 14-foot wide outside shared use lanes, and a five foot wide sidewalk on the west side of the roadway from U.S. 83 to Mile 3 Road (Phase I), and a 44-foot wide rural roadway consisting of two 12 foot wide travel lanes and two 10-foot wide shoulders from Mile 3 Road to FM 2221 (Phase II). The length of the proposed project is approximately 6.2 miles. The purpose of the proposed project is to develop long-term transportation improvements along this corridor and in the region, and to alleviate congestion and improve circulation. The actions by TxDOT and Federal agencies and the laws under which such actions were taken are described in the Final Environmental Assessment (EA) approved on September 29, 2015, the Finding of No Significant Impact (FONSI) issued on September 29, 2015, and other documents in the TxDOT project file. The EA, FONSI, and other documents in the TxDOT project file are available by contacting TxDOT at the address provided above or the TxDOT Pharr District Office at 600 W U.S. Expressway 83, Pharr, TX 78577-1231; telephone: (956)702-6102.

8. Dicker Road from Spur 115 (23rd Street) to FM 2061 (South Jackson Road), Hidalgo County. The proposed project involves widening Dicker Road from two lanes with roadside ditches to a curb and gutter section with two 12-foot wide travel lanes, two 14-foot wide outside shared use lanes, and a 14-foot wide continuous left-turn lane. The length of the proposed project is 2.56 miles. The project is proposed to reduce congestion and enhance safety by accommodating projected traffic volumes. The actions by TxDOT and Federal agencies and the laws under which such actions were taken are described in the Final Environmental Assessment (EA) approved on January 25, 2016, the Finding of No Significant Impact (FOSNI) issued on January 25, 2016, and other documents in the TxDOT project file. The EA, FONSI, and other documents in the TxDOT project file are available by contacting TxDOT at the address provided above or the TxDOT Pharr District Office at 600 W U.S. Expressway 83, Pharr, TX 78577-1231; telephone: (956)702-6102.

9. Mile 3 North Road from FM 492 to FM 2221 in Hidalgo County. The proposed project involves: Widening and reconstructing the existing Mile 3 North Road to a four lane roadway from FM 492 to Tom Gill Road (Section I), a distance of 3.5 miles; extending Mile 3 North Road as a two lane roadway on new location from Tom Gill Road to FM 2221 (Section II), a distance of 2.5 miles; realigning the FM 492 (Goodwin Road) intersection; and providing a new location drainage outfall. The project is located partially in Peñitas, Texas and the remainder is in Hidalgo County, Texas jurisdiction. The purpose of the project is to improve mobility and drainage, as well as enhance the local and regional transportation network. The actions by TxDOT and Federal agencies and the laws under which such actions were taken are described in the Final Environmental Assessment (EA) approved on April 7, 2017, the Finding of No Significant Impact (FONSI) issued on April 7, 2017, and other documents in the TxDOT project file. The EA, FONSI, and other documents in the TxDOT project file are available by contacting TxDOT at the address provided above or the TxDOT Pharr District Office at 600 W U.S. Expressway 83, Pharr, TX 78577-1231; telephone: (956)702-6102.

10. FM 2220 (Ware Road) from Auburn Avenue (Mile 5) to FM 1924 (Mile 3/Buddy Owens), Hidalgo County. The proposed project will widen and reconstruct the rural roadway to a 101-foot wide urban roadway with six 11.5-foot wide travel lanes, two eight foot wide shoulders, a 14-foot wide raised median with directional openings, and five foot wide sidewalks on both sides of the roadway within a 120 foot right-of-way. The project length is two miles. The purpose of the proposed project is to reduce congestion, improve mobility, enhance safety and provide improved traffic flow. The actions by TxDOT and Federal agencies and the laws under which such actions were taken are described in the Final Environmental Assessment (EA) approved on September 29, 2015, the Finding of No Significant Impact (FONSI) issued on September 29, 2015, and other documents in the TxDOT project file. The EA, FONSI, and other documents in the TxDOT project file are available by contacting TxDOT at the address provided above or the TxDOT Pharr District Office at 600 W U.S. Expressway 83, Pharr, TX 78577-1231; telephone: (956)702-6102.

11. SH 365 from FM 1016/Conway Avenue to U.S. 281/Military Highway, Hidalgo County. The proposed project involves construction of an interim four-lane divided controlled access toll facility, with an ultimate facility consisting of six travel lanes divided by a flushed median with concrete barrier. The 16.53 mile long proposed toll facility would be constructed on new location within a typical 300-foot right-of-way, varying from 160- to 400-foot. Also included are non-toll improvements along U.S. 281/Military Highway and a 0.70 mile long one-lane connector to the Pharr Border Safety Inspection Facility. The purpose of the proposed facility is to improve east-west mobility and interconnectivity to distribute traffic between existing and planned border crossings; to reduce community disruption south of I-2/U.S. 83 associated with increased freight movement; and address safety concerns within the arterial and local street network. The actions by TxDOT and Federal agencies and the laws under which such actions were taken are described in the Final Environmental Assessment (EA) approved on July 2, 2015, the Finding of No Significant Impact (FONSI) issued on July 2, 2015, and other documents in the TxDOT project file. The EA, FONSI, and other documents in the TxDOT project file are available by contacting TxDOT at the address provided above or the TxDOT Pharr District Office at 600 W U.S. Expressway 83, Pharr, TX 78577-1231; telephone: (956)702-6102.

12. Interstate Highway (IH) 635 (LBJ Freeway—East Section) from U.S. 75 to IH 30 in Dallas County. The proposed improvements would include the addition of one 12-foot general purpose lane in each direction for a total of ten general purpose lanes. The proposed project would also include the addition of one managed lane in each direction, located between the eastbound and westbound general purpose lanes in the median from east of U.S. 75 to Royal Lane/Miller Road for a total of four manage lanes, and the addition of one express lane in each direction, located in the median between the eastbound and westbound general lanes from Royal Lane/Miller Road to north of I-30 interchange for a total of four express lanes. Two and three lane frontage roads would be added to link the non-continuous frontage roads in each direction and reconstruct the existing frontage roads to accommodate other corridor improvements. All arterial street overcrossings and undercrossings would be reconstructed. The interchange at IH 30 and IH 635 would also be reconstructed. The length of the proposed project is approximately 11 miles. The purpose of the proposed project is to provide traffic congestion relief on the IH 635 facility and on the surrounding arterial street system. The actions by TxDOT and Federal agencies and the laws under which such actions were taken are described in the Final Environmental Assessment (EA) approved on January 30, 2003, Finding of No Significant Impact (FONSI) issued on January 30, 2003 and other documents in the TxDOT project file. The most recent project reevaluation was approved on April 24, 2017. The EA and other documents in the TxDOT project file are available by contacting TxDOT at the address provided above or the TxDOT Dallas District Office at 4777 E Highway 80, Mesquite, TX 75150; telephone: (214) 320-4480.

Authority: 23 U.S.C. 139(l)(1).

Issued on: October 1, 2018.
Michael T. Leary,
Director, Planning and Program Development, Federal Highway Administration.

[FR Doc. 2018-21719 Filed 10-11-18; 8:45 am]

BILLING CODE 4910-22-P